DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Southern Resident Killer Whale Watching Industry Socioeconomic Study.

Form Number(s): None.

OMB Approval Number: None.

Type of Request: Regular submission.

Burden Hours: 401.

Number of Respondents: 283.

Average Hours Per Response: Surveys: 1 hour; interviews: 2.5 hours; and meetings: 40 minutes.

Needs and Uses: The Southern Resident Killer Whales of the Greater Puget Sound have recently been listed as endangered under the Endangered Species Act and protected under the Marine Mammal Protection Act. One industry that is dependent on the whales is the whale watching industry of the Greater Puget Sound. This study aims to create a profile of the industry and understanding the characteristics of the industry. In the event future actions by the federal government result in regulatory actions, laws such as NEPA and the Regulatory Flexibility Act require social and economic impacts analysis. The information obtained in this study will provide information to the agency to assist any future impact analysis that may be required. .

Affected Public: Business or other for-profit organizations; not-for-profit institutions; individuals or households.

Frequency: One-time only.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent by April 30, 2006 to David Rostker, OMB Desk Officer, FAX number (202) 395-7285, or David_Rostker@omb.eop.gov.

Dated: March 30, 2006.
Gwellnar Banks,
Management Analyst, Office of the Chief Information Officer.

[FR Doc. E6-4885 Filed 4-4-06; 8:45 am]

BILLING CODE 3510-22-P